DEPARTMENT OF EDUCATION

Applications for New Awards; Personnel Development To Improve Services and Results for Children With Disabilities Program—Associate Degree Preservice Program Improvement Grants To Support Personnel Working With Young Children With Disabilities

AGENCY: Office of Special Education and Rehabilitative Services, Department of Education.

ACTION: Notice.

SUMMARY: The Department of Education (Department) is issuing a notice inviting applications for new awards for fiscal year (FY) 2023 for Personnel Development to Improve Services and Results for Children with Disabilities Program—Associate Degree Preservice Program Improvement Grants to Support Personnel Working with Young Children with Disabilities, Assistance Listing Number 84.325N. This notice relates to the approved information collection under OMB control number 1820-0028.

DATES:

Applications Available: February 23, 2023.

Deadline for Transmittal of Applications: April 24, 2023.

Deadline for Intergovernmental Review: June 23, 2023.

Pre-Application Webinar Information: No later than February 28, 2023, OSERS will post pre-recorded informational webinars designed to provide technical assistance to interested applicants. The webinars may be found at https://www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs. Please note that these Common Instructions supersede the version published on December 27, 2021.

FOR FURTHER INFORMATION CONTACT: Julia Martin Eile, U.S. Department of Education, 400 Maryland Avenue SW, Room 5076 Potomac Center Plaza, Washington, DC 20202-5076. Telephone: (202) 245-7431. Email: Julia.martin.eile@ed.gov.

If you are deaf, hard of hearing, or have a speech disability and wish to access telecommunications relay services, please dial 7-1-1.

SUPPLEMENTARY INFORMATION:

Full Text of Announcement

I. Funding Opportunity Description

Purpose of Program: The purposes of this program are to (1) help address State-identified needs for personnel preparation in special education, early intervention, related services, and regular education to work with children, including infants, toddlers, and youth with disabilities; and (2) ensure that those personnel have the necessary skills and knowledge, derived from practices that have been determined through scientifically based research, to be successful in serving those children.

Priority: This competition includes one absolute priority, which includes two competitive preference priorities within the absolute priority. In accordance with 34 CFR 75.105(b)(2)(v), the absolute priority is from allowable activities specified in the statute (see sections 662 and 681 of the Individuals with Disabilities Education Act (IDEA) (20 U.S.C. 1462 and 1481)).

Absolute Priority: For FY 2023 and any subsequent year in which we make awards from the list of unfunded applications from this competition, this priority is an absolute priority. Under 34 CFR 75.105(c)(3), we consider only applications that meet this priority.

This priority is:

Associate Degree Preservice Program Improvement Grants to Support Personnel Working with Young Children with Disabilities.

Background:

Creating and maintaining inclusive and equitable early childhood systems requires that all young children, including infants, toddlers, and preschool children (young children) with disabilities and their families, have equitable access to early childhood opportunities and resources. This is particularly important for racially, ethnically, and culturally diverse populations of young children with disabilities and their families, including those who are multilingual. Qualified and competent personnel are vital to support high-quality inclusion and equitable participation in early childhood programs. Early childhood program personnel with associate degrees play critical roles in supporting inclusive and equitable early childhood programs for young children with disabilities, including those within diverse populations, as child care providers, preschool teachers, assistant teachers, and paraprofessionals.

To effectively support full and equitable participation of young children in these programs, early childhood program personnel with associate degrees need competencies ¹ in these roles in order to individualize instruction and accommodations to support the children's development and learning; implement culturally responsive practices in the learning environment; promote children's social, emotional, and behavioral development; collect data to monitor progress; communicate effectively with families; and collaborate with other professionals.

¹ For the purposes of this priority, “competencies” means what a person knows and can do—the knowledge, skills, and dispositions necessary to effectively function in a role (National Professional Development Center on Inclusion, 2011).

Preservice preparation provides a foundation to support the acquisition of specialized competencies needed to deliver effective and equitable practices that support high-quality inclusion for all young children with disabilities, including those who are multilingual and from racially, ethnically, and culturally diverse populations.

Studies have shown, however, that many associate degree programs do not adequately prepare personnel to provide supports and evidence-based practices (EBPs) to serve young children with disabilities and their families in inclusive early childhood programs (Catlett et al., 2014; Catlett et al., 2016; Chang et al., 2005; Maxwell et al., 2006). Programs of study are also not consistently equity-based (National Center on Early Childhood Development, Teaching, and Learning, 2018). Pedagogical practices in early childhood personnel preparation programs and professional development programs that are inclusive with regard to race, ethnicity, culture, language, and disability status would support personnel in being better prepared to create inclusive, supportive, equitable, unbiased, and identity-safe learning environments for children.

Ensuring that associate degree students have access to high-quality preparation programs is key to creating and maintaining inclusive and equitable early childhood programs. High-quality preparation programs provide associate degree-seeking students with the foundational competencies to provide equitable and effective supports and instruction to young children with disabilities, including those who are multilingual and from racially, ethnically, and culturally diverse populations. High-quality preparation programs also can provide an on-ramp to further educational attainment and facilitate articulation agreements ² with 4-year programs, where core competencies align with course objectives in bachelor's degree programs. The early intervention and early childhood special education field has a workforce crisis because of shortages of personnel, particularly shortages of multilingual personnel and limited racial, ethnic, and cultural diversity within available personnel (Early Childhood Technical Assistance Center and the National Association of State Directors of Special Education, 2021; IDEA Infant and Toddler Coordinators Association, 2022). While Black and Hispanic students enroll in higher numbers in community colleges (Hanson, 2022), Black and Hispanic adults are less likely than White adults to have a college degree (National Education Statistics, 2022; Mora, 2022). Supporting career pathways from associate degrees to bachelor's degrees is critical for developing a diverse workforce that has the competencies to promote positive and equitable outcomes for young children with disabilities and their families in inclusive early childhood programs.

² An articulation agreement document is a formal commitment between two colleges or universities that lays out a transfer plan for coursework and credits to ensure students have a clear pathway to the next step in their education.

This priority also will advance the Secretary's Supplemental Priority related to supporting a diverse educator workforce and professional growth to strengthen student learning. See Secretary's Final Supplemental Priorities and Definitions for Discretionary Grants Programs, 86 FR 70612 (Dec. 10, 2021) (Supplemental Priorities) (Priority 3).

Priority:

The purpose of this priority is to fund Associate Degree Preservice Improvement Grants to Support Personnel Working with Young Children with Disabilities to achieve, at a minimum, the following expected outcomes:

(a) Increased capacity of community college faculty to design and deliver curriculum content that prepares associate degree students to work with young children with disabilities and their families, including those who are multilingual and from racially, ethnically, and culturally diverse populations, and support their full and equitable participation, development, and learning in early childhood programs.

(b) Increased number of early childhood program personnel with associate degrees who have the competencies to work with young children with disabilities and their families, including those who are multilingual and from racially, ethnically, and culturally diverse populations, and support their full and equitable participation, development, and learning in early childhood programs.

(c) Increased collaboration between 4-year institutions of higher education (IHEs) and community colleges to support articulation agreements and career pathways in early intervention and early childhood special education, to increase the number of associate degree graduates who enter bachelor's degree programs.

In addition to these programmatic requirements, to be considered for funding under this priority, applicants must meet the application and administrative requirements in this priority, which are:

(a) Demonstrate, in the narrative section of the application under “Significance,” how the proposed project will—

(1) Address the need in the field for early childhood program personnel with associate degrees who have the competencies to serve young children with disabilities and their families, including those who are multilingual and from racially, ethnically, and culturally diverse populations, and support their full and equitable participation, development, and learning in early childhood programs; and

(2) Address the need for community college faculty to have the capacity to design and deliver content that will prepare associate degree students to serve young children with disabilities and their families, including those who are multilingual and from racially, ethnically, and culturally diverse populations, and support their full and equitable participation, development, and learning in early childhood programs.

(b) Demonstrate, in the narrative section of the application under “Quality of project services,” how the proposed project will—

(1) Develop or refine a process to effectively enhance and redesign associate degree programs to achieve the intended outcomes of the proposed project. To address this requirement, the applicant must describe—

(i) How it proposes to develop partnerships with a minimum of three community colleges to enhance and revise the associate degree curricula within these community colleges to prepare early intervention, early childhood special education, and early childhood education personnel to equitably serve children ages birth through five with disabilities and their families, including those who are multilingual and from racially, ethnically, and culturally diverse populations. (In States where the age range for certification of early childhood personnel is other than birth through age 5 (e.g., birth through age 3, birth through age 5, ages 3 through 5), we defer to the age range in such State's certification); and

Note: If an applicant has been awarded an Associate Degree Preservice Program Improvement Grant to Support Personnel Working with Young Children with Disabilities (Assistance Listing Number 84.325N) grant previously, the applicant may not partner with the same community colleges and must propose different community college partners, to expand the number of community colleges with enhanced programs of study.

(ii) Its proposed approach to partner with community colleges to enhance or redesign the associate degree programs' curricula by incorporating evidence-based practices ³ into courses and by providing at least one practicum experience in a setting that serves young children with disabilities and their families, including young children and families who are multilingual and from racially, ethnically, and culturally diverse populations. The applicant must describe—

³ For the purposes of this priority, “evidence-based” means the proposed project component is supported by one or more of strong evidence, moderate evidence, promising evidence, or evidence that demonstrates a rationale (34 CFR 77.1).

(A) The approach the proposed project will use to identify and incorporate current research and EBPs in the development and delivery of the curriculum enhancement and redesign;

(B) The knowledge and competencies students will acquire in the enhanced curriculum; and

(C) How coursework and practicum experiences will enable the students to acquire competencies to: support young children with disabilities, including children who are multilingual and from racially, ethnically, and culturally diverse populations, with their development and learning; implement culturally and linguistically responsive instruction and intervention practices; work collaboratively with other practitioners; engage and communicate effectively with families; and support children's full and equitable participation in inclusive early childhood programs;

(2) Provide professional development to faculty in the community colleges to develop their capacity to enhance or redesign their associate degree program and implement the new content to prepare associate degree students to work with young children with disabilities and their families, including those who are multilingual and from racially, ethnically, and culturally diverse populations; and

(3) Partner with community colleges to support the development of joint articulation agreements to create career pathways for associate degree students in early intervention and early childhood special education.

(c) Demonstrate, in the narrative section of the application under “Quality of the project personnel and quality of management plan,” how—

(1) The proposed project will encourage applications for employment from persons who are members of groups that have traditionally been underrepresented based on race, color, national origin, gender, age, or disability, as appropriate;

(2) The project director and key project personnel have the qualifications and experience to carry out the proposed activities and achieve the project's intended outcomes;

(3) The project director and other key project personnel will manage the components of the project;

(4) The time commitments of the project director and other key project personnel are adequate to meet the objectives of the proposed project;

(5) The proposed management plan will ensure that the products and services provided are of high quality, relevant, and useful to recipients; and

(6) The proposed project will benefit from a diversity of perspectives, including students in the program, families of young children in early childhood programs, early childhood educators, faculty, and community partners, among others, in its development and operation.

(d) Demonstrate, in the narrative section of the application under “Adequacy of resources,” how—

(1) The applicant and any key partners have adequate resources to carry out the proposed activities; and

(2) The budget is adequate for meeting the project objectives.

(e) Demonstrate, in the narrative section of the application under “Quality of the project evaluation,” how the applicant will—

(1) Evaluate how well the goals or objectives of the proposed project have been met. To meet this requirement the applicant must describe—

(i) The relevant outcomes to be measured for the project, particularly the acquisition of faculty and scholars' competencies; and

(ii) The evaluation methodologies, data collection methods, and data analyses that will be used; and

(2) Collect, analyze, and use disaggregated data on scholars supported by the project to inform the proposed project on an ongoing basis.

(f) Address the following application requirements and assurances. The applicant must—

(1) Include, in appendix A, charts, tables, figures, graphs, screen shots and visuals that provide information directly relating to the application requirements for the narrative. Appendix A should not be used for supplementary information. Please note that charts, tables, figures, graphs, or screen shots, can be single-spaced when placed in appendix A;

(2) Include in appendix B any letters of commitment obtained from partner community colleges. Any letters of commitment should include information on the racial and ethnic demographics of students who attend the community college;

(3) Ensure that if the project maintains a website, it will be of high quality, with an easy-to-navigate design that meets government or industry-recognized standards for accessibility;

(4) Include, in the budget, attendance at a two- and one-half day project directors' conference in Washington, DC, or virtually, during each year of the project period; and

Note: The project must reallocate unused travel funds no later than the end of the third quarter of each budget period if the two- and one-half day project director's conference is conducted virtually.

(5) Provide an assurance that the project will submit the revised curriculum and syllabi for courses that are included in the enhanced associate degree programs if requested by the Office of Special Education Programs (OSEP).

Competitive Preference Priorities: Within this absolute priority, we give competitive preference to applications that address the following two priorities. Under 34 CFR 75.105(c)(2)(i), we award an additional 3 points to an application that meets Competitive Preference Priority 1 and an additional 3 points to an application that meets Competitive Preference Priority 2. Applicants should indicate in the abstract if one or both competitive preference priorities are addressed.

The priorities are:

Competitive Preference Priority 1—Applications from Historically Black Colleges and Universities (HBCUs),⁴ Tribally Controlled Colleges and Universities (TCUs),⁵ and other Minority Serving Institutions (MSIs) ⁶ (0 or 3 points).

⁴ For purposes of this priority, “Historically Black Colleges and Universities” means colleges and universities that meet the criteria set out in 34 CFR 608.2.

⁵ For purposes of this priority, “Tribally Controlled Colleges and Universities” has the meaning ascribed to it in section 316(b)(3) of the Higher Education Act of 1965, as amended (HEA).

⁶ For purposes of this priority, “Minority-Serving Institution” means an institution that is eligible to receive assistance under sections 316 through 320 of part A of title III, under part B of title III, or under title V of the HEA. For purposes of this priority, the Department will use the FY 2022 Eligibility Matrix to determine MSI eligibility (see https://www2.ed.gov/about/offices/list/ope/idues/eligibility.html).

Competitive Preference Priority 2—Partnership with HBCU Community Colleges, TCU Community Colleges, or other MSI Community Colleges (0 or 3 points).

Under Competitive Preference Priority 2, an applicant must have a letter of commitment that demonstrates at least one of its community college partners is an HBCU community college, TCU community college, or other MSI community college.

References:

Catlett, C., Maude, S.P., Nollsch, M., & Simon, S. (2014). From all to each and every: Preparing professionals to support children of diverse abilities. In K. Pretti-Frontczak, J. Grisham-Brown, & L. Sullivan (Eds.), Blending practices for all children (pp. 111-124). Young Exceptional Children Monograph Series No. 16. Division for Early Childhood. https://fpg.unc.edu/sites/fpg.unc.edu/files/resources/presentations-and-webinars/Catlett%2C%20Maude%2C%20Nollsch%2C%20%26%20Simon%20-%20YEC%20%281%29_0.pdf.

Catlett, C., Maude, S.P., & Skinner, M. (Oct. 2016). The blueprint process for enhancing early childhood preservice programs and courses [Unpublished manuscript]. https://fpg.unc.edu/publications/blueprint-process-enhancing-early-childhood-preservice-programs-and-courses.

Chang, F., Early, D., & Winton, P. (2005). Early childhood teacher preparation in special education at 2- and 4-year institutions of higher education. Journal of Early Intervention, 27, 110-12.

Early Childhood Technical Assistance Center and the National Association of State Directors of Special Education. (Feb. 10, 2021). Presentation to the Office of Special Education Programs [Unpublished report]. U.S. Department of Education, Office of Special Education Programs.

Hanson, Melanie. (July 26, 2022). College Enrollment & Student Demographic Statistics. Education Data Initiative. https://educationdata.org/college-enrollment-statistics.

IDEA Infant and Toddlers Coordinators Association. (2022). 2022 tipping points survey: Demographics, challenges, and opportunities. IDEA Infant and Toddlers Coordinators Association.

Maxwell, K.L., Lim, C-I., & Early, D.M. (2006). Early childhood teacher preparation programs in the United States: National report. University of North Carolina, FPG Child Development Institute.

Mora, L. (2022). Hispanic enrollment reaches new high at four-year colleges in the U.S., but affordability remains an obstacle. Pew Research Center. www.pewresearch.org/fact-tank/2022/10/07/hispanic-enrollment-reaches-new-high-at-four-year-colleges-in-the-u-s-but-affordability-remains-an-obstacle/.

National Center for Education Statistics. (2022). College Enrollment Rates. Condition of Education. U.S. Department of Education, Institute of Education Sciences. https://nces.ed.gov/programs/coe/indicator/cpb.

National Center on Early Childhood Development, Teaching, and Learning. (2018). Workforce development: Higher education and preservice professional preparation. https://eclkc.ohs.acf.hhs.gov/sites/default/files/pdf/workforce-development-higher-education.pdf.

National Professional Development Center on Inclusion. (Aug. 2011). Competencies for early childhood educators in the context of inclusion: Issues and guidance for States. The University of North Carolina, FPG Child Development Institute.

Waiver of Proposed Rulemaking: Under the Administrative Procedure Act (APA) (5 U.S.C. 553), the Department generally offers interested parties the opportunity to comment on proposed priorities. Section 681(d) of IDEA, however, makes the public comment requirements of the APA inapplicable to the priority in this notice.

Program Authority: 20 U.S.C. 1462 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 304.

Note: The regulations in 34 CFR part 79 apply to all applicants except federally recognized Indian Tribes.

Note: The regulations in 34 CFR part 86 apply to IHEs only.

II. Award Information

Type of Award: Discretionary grants.

Estimated Available Funds: $2,000,000.

Contingent upon the availability of funds and the quality of applications, we may make additional awards in FY 2024 from the list of unfunded applications from this competition.

Estimated Range of Awards: $190,000-$200,000.

Estimated Average Size of Awards: $195,000.

Maximum Award: We will not make an award exceeding $200,000 for a single budget period of 12 months.

Estimated Number of Awards: 10.

Note: The Department is not bound by any estimates in this notice.

Project Period: Up to 60 months.

III. Eligibility Information

1. Eligible Applicants: IHEs and private nonprofit organizations.

2. a. Cost Sharing or Matching: This competition does not require cost sharing or matching.

b. Indirect Cost Rate Information: This program uses a training indirect cost rate of 8 percent. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see https://www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c) a grantee under this competition may award subgrants—to directly carry out project activities described in its application—to the following types of entities: IHEs, nonprofit organizations suitable to carry out the activities proposed in the application, and other public agencies. The grantee may award subgrants to entities it has identified in an approved application or that it selects through a competition under procedures established by the grantee.

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/documents/2022/12/07/2022-26554/common-instructions-for-applicants-to-department-of-education-discretionary-grant-programs, which contain requirements and information on how to submit an application. Please note that these Common Instructions supersede the version published on December 27, 2021.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 40 pages and (2) use the following standards:

• A “page” is 8.5″ × 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are listed below:

(a) Significance (10 points).

(1) The Secretary considers the significance of the proposed project.

(2) In determining the significance of the proposed project, the Secretary considers the following factors:

(i) The extent to which the proposed project will prepare personnel for fields in which shortages have been demonstrated; and

(ii) The importance or magnitude of the results or outcomes likely to be attained by the proposed project, especially improvements in teaching and student achievement.

(b) Quality of project services (45 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable;

(ii) The extent to which the services to be provided by the proposed project reflect up-to-date knowledge from research and effective practice; and

(iii) The extent to which the training or professional development services to be provided by the proposed project are of sufficient quality, intensity, and duration to lead to improvements in practice among the recipients of those services.

(c) Quality of project personnel and quality of management plan (20 points).

(1) The Secretary considers the quality of the personnel who will carry out the proposed project and the quality of the management plan for the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel;

(ii) The adequacy of the management plan to achieve the objectives of the proposed project on time and within budget, including clearly defined responsibilities, timelines, and milestones for accomplishing project tasks;

(iii) The extent to which the time commitments of the project director and principal investigator and other key project personnel are appropriate and adequate to meet the objectives of the proposed project; and

(iv) The adequacy of mechanisms for ensuring high-quality products and services from the proposed project.

(d) Adequacy of resources (10 points).

(1) The Secretary considers the adequacy of resources for the proposed project.

(2) In determining the adequacy of resources for the proposed project, the Secretary considers the following factors:

(1) The adequacy of support, including facilities, equipment, supplies, and other resources, from the applicant organization or the lead applicant organization; and

(2) The extent to which the costs are reasonable in relation to the objectives, design, and potential significance of the proposed project.

(e) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project; and

(ii) The extent to which the methods of evaluation will provide performance feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also. If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works.

Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, the Department has established a set of performance measures, including long-term measures, that are designed to yield information on various aspects of the effectiveness and quality of the Personnel Development to Improve Services and Results for Children with Disabilities program. These measures include (1) the percentage of preparation programs that incorporate scientifically based research or EBPs into their curricula; (2) the percentage of scholars completing the preparation program who are knowledgeable and skilled in EBPs that improve outcomes for children with disabilities; (3) the percentage of scholars who exit the preparation program prior to completion due to poor academic performance; and (4) the percentage of scholars completing the preparation program who are working in the area(s) in which they were prepared upon program completion.

The measures apply to projects funded under this competition, and grantees are required to submit data on these measures as directed by OSEP.

Grantees will be required to report information on their project's performance in annual and final performance reports to the Department (34 CFR 75.590).

The Department will also closely monitor the extent to which the products and services provided by the project meet needs identified by stakeholders and may require the project to report on such alignment in its annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Deputy Assistant Secretary Delegated the authority to perform the functions and duties of the Assistant Secretary for the Office of Special Education and Rehabilitative Services.

[FR Doc. 2023-03707 Filed 2-22-23; 8:45 am]

BILLING CODE 4000-01-P